DEPARTMENT OF TRANSPORTATION

Federal Aviation Administration

14 CFR Parts 47 and 49

[Docket No.: FAA-2024-2764; Amdt. Nos. 47-35 AND 49-12]

RIN 2120-AM07

Aircraft Registration and Recordation Procedural Updates: Original Documents and Stamping

AGENCY: Federal Aviation Administration (FAA), DOT.

ACTION: Final rule.

SUMMARY: The FAA is updating certain procedural regulations relating to civil aircraft registration and recordation to provide administrative relief from the requirements for submitting original documents and to sunset the FAA's practice of stamping documents. Amending these regulations will reduce administrative burdens and enable the FAA to better utilize the capabilities of the Civil Aviation Registry Electronic Services (CARES) system for civil aircraft registration and recordation.

DATES: Effective January 17, 2025.

FOR FURTHER INFORMATION CONTACT: Craig Whitbeck, Registry Services and Information Management Branch, Federal Aviation Administration, 6500 S MacArthur Blvd., Bldg 29, Oklahoma City, OK 73169; telephone (405) 954-3131; email Craig.Whitbeck@faa.gov.

SUPPLEMENTARY INFORMATION:

I. Authority for This Rulemaking

The FAA's authority to issue rules on aviation safety is found in Title 49 of the United States Code (49 U.S.C.). Subtitle I, section 106 describes the authority of the FAA Administrator. Subtitle VII, Aviation Programs, describes in more detail the scope of the FAA's authority. This rulemaking is promulgated under the authority described in 49 U.S.C. 106(f), which establishes the authority of the Administrator to promulgate regulations and rules; and 49 U.S.C. 44701(a)(5), which requires the Administrator to promote safe flight of civil aircraft in air commerce by prescribing regulations and setting minimum standards for other practices, methods, and procedures necessary for safety in air commerce and national security.

This rulemaking is also promulgated pursuant to 49 U.S.C. 44101-44108 and 44110-44113, which require aircraft to be registered as a condition of operation and establish the requirements for registration, registration processes, and the recordation of conveyances, leases, and security instruments. The FAA Civil Aviation Registry is responsible for the registration and recordation of civil aircraft and conveyances.

The regulations in this rule are within the scope of the above authorities because they prescribe the form and means by which aircraft registration applications, conveyances, and related documents and materials are to be submitted to the Registry, and the procedures for the Registry to process such documents.

II. Immediate Adoption of Final Rule

The notice and comment procedures required under section 553(b) of the Administrative Procedure Act (APA) (5 U.S.C. 553) do not apply to rules of “agency organization, procedure, or practice.” Under this section, an agency may issue a final rule without seeking comment prior to the rulemaking. This rulemaking updates certain procedural regulations for aircraft registration and recordation in parts 47 and 49 of Title 14 of the Code of Federal Regulations (14 CFR) to provide the FAA with flexibility in accepting non-original documents and to sunset the FAA's practice of date stamping incoming documents. This rule does not alter the substantive rights or obligations of persons applying for aircraft registration or submitting conveyances for recordation. Rather, the rule allows such persons the option of submitting non-original documents electronically while retaining the existing option of submitting original documents if a person prefers. The rule also amends the internal FAA processing of submissions, which does not affect the rights or interests of regulated parties. With these inefficiencies removed, the use of modern technology will enable greater flexibility for the public and the Registry, will reduce document rejection rates, and improve the aircraft registration process. Therefore, the FAA has determined that this rulemaking is a rule of agency procedure or practice for which notice and public comment are not required.

Accordingly, because this is a rule of agency practice or procedure for which notice and public comment is not required, the FAA also finds good cause to waive the delay of effective date as set forth in 5 U.S.C. 553(d). This rule will be immediately effective upon publication.

III. Background

The Civil Aviation Registry, FAA Aircraft Registration Branch (Registry) is responsible for developing, maintaining, and operating the Federal registration and recordation system for United States aircraft. The Registry's legacy information technology infrastructure, Registry Modernization Services (RMS), last updated in 2008, has been used to ensure aircraft and security conveyances are properly registered and recorded. RMS was implemented on a mainframe environment that is costly to operate and difficult to support.

In addition, section 546 of the FAA Reauthorization Act of 2018 (Pub. L. 115-254) ¹ requires that the FAA complete covered upgrades of the Civil Aviation Registry. The term “covered upgrades” includes the digitization of nondigital Registry information, the digitization of manual and paper-based processes, the implementation of electronic or remote methods for the public to submit their information, and the provision of more efficient, broader, and remote access to the Registry.

¹ 132 Stat. 3376 (Oct. 5, 2018).

Following this Congressional direction, the Registry began exploring alternatives to the legacy system and developed a modernization plan. As of 2022, the Aircraft Registration Branch started implementing a new system of registration and recordation called the Civil Aviation Registry Electronic Services, or “CARES.” The project implements a web-based electronic system that allows the aviation community to securely submit applications, upload documentation, and provide the data necessary for the Registry to perform aircraft registration and airman certification services. For registrants using the system, CARES allows more comprehensive functionality, including a personal portal for users to view their submissions, pay fees online, and digitally sign their applications. Full implementation of the CARES system is expected by late 2025. Ultimately, CARES will become the central and legal repository of all aircraft registration and airman certification records and will fully replace the existing service.

While CARES is equipped with features for online document submission, including the automated recordation of the date and time of submission, a number of regulations in 14 CFR parts 47 and 49 continue to require the submission of original documents, which occurs by mail, and also include references in various sections to the Registry's procedures for the date stamping of documents.

IV. Discussion of the Final Rule

A. Document Stamping

Historically and to this day, the Registry stamps the date and time of receipt and processing on many of the forms and documents submitted in accordance with parts 47 and 49, such as aircraft registration applications, conveyances for recordation, and supporting documentation. This agency practice is referenced in two of the regulations at issue in this final rule.

The FAA has determined that its procedures for the stamping of documents submitted to the Registry are no longer necessary. As discussed, the Registry is in the process of replacing the legacy RMS system with the cloud-based CARES system. Document stamps helped RMS users track the date and time documents were received and processed by the Registry. The CARES system will maintain digital document records that replace the need for document stamps.

Accordingly, in this rule the FAA is amending §§ 47.39 and 49.21, both of which refer to the stamping of documents. With respect to § 47.39, which concerns the effective date of aircraft registration, the FAA is removing language that refers to the effective date of registration being shown by a date stamp on the application for aircraft registration. Similarly, § 49.21 is being revised to delete the reference to stamping. Section 49.21 is also being revised because of the procedures for returning original documents and is discussed further in the section that follows.

B. Submission of Original Documents

A few procedural regulations in parts 47 and 49 require the submission of original documents, which results in inefficiencies with the CARES online submission capability. The CARES system provides a free online, self-guided aircraft registration application (Form 8050-1) with an FAA approved digital signature feature, online payment, and electronic submission to the Registry. Other required forms and supporting documents, as well as conveyances for recording, may be uploaded to CARES for submission to the Registry.

However, uploaded copies of ink signed documents are currently rejected because they are not original documents. Digitally signed original documents are also not permitted to be uploaded; they must be printed and mailed to meet the regulatory requirements for submission of original documents. The procedural requirements to submit the originals of certain documents, such as an original Aircraft Bill of Sale in support of an application for aircraft registration (§ 47.31(a)(2)), are unnecessary barriers to the FAA's ability to fully utilize the functionalities of CARES or other modern technologies.

Moreover, in accordance with the procedures in current § 49.21, the FAA is obligated to return a submitted original document when the person making the submission sends a true copy with the original. This procedural requirement is another administrative burden on the FAA that can be ameliorated if the regulations no longer mandate the submission of original documents.

To address these inefficiencies, in this rule the FAA is amending the procedural regulations at issue to relieve registrants, and others who submit conveyances and supporting materials for recordation, from the requirements to submit original documents. While the Registry will still accept original documents and materials, the preferred approach is now to submit non-original documents in a form and by a means acceptable to the FAA. For some documents and materials, a photocopy or digital image may be acceptable; for others, a true or certified copy may be required (see, e.g., §§ 47.8(a)(1), 47.11(b)(2), 49.31(a), and 49.33(c), as amended). The regulatory relief provided will enable persons to upload copies of ink signed documents and digitally signed original documents for submission via CARES and a successor system.

Accordingly, to provide this relief, the FAA is removing the term “original” in §§ 47.31(a)(2) and 49.21. In § 49.17(d)(3), the FAA is replacing the term “original agreement” with “originating agreement” to avoid confusion. And in § 49.33(c)—which requires, for the types of conveyances specified in § 49.31(a), an original document, or a duplicate original document, or if neither is available, a true copy—the FAA is re-ordering the regulatory text such that the true copy is listed first, as the preferred form for submission.

The FAA is also revising §§ 47.19 and 49.11 to provide for needed administrative flexibility in determining the acceptability of non-original documents now that original documents are no longer mandated (e.g., if a true or certified copy will be required for authentication). Sections 47.19 and 49.11 already require applications, conveyances, requests, notifications, and other communications to be delivered to the FAA by a means acceptable to the Administrator. To clarify that any document or other material submitted in support of an application under part 47 is also covered, the FAA is adding the term “submission” to the regulatory text in § 47.19. In addition, this rule revises §§ 47.19 and 49.11 to clarify that any submission or communication must also be delivered in a form acceptable to the Administrator, and it adds descriptive language specifying that acceptable forms and means include electronic or digital forms and means compatible with systems used by the Registry.² These clarifications to §§ 47.19 and 49.11 will enable the FAA to accept non-original documents in an acceptable form and manner, to include electronic or digital means compatible with CARES, or a successor system.

² The FAA provides additional instructions and information regarding submitting documents and information electronically at: https://www.faa.gov/licenses_certificates/aircraft_certification/aircraft_registry.

Finally, the FAA is revising § 49.21 which currently prescribes the procedural requirement for the FAA to return an original conveyance if the person submitting the conveyance wants it returned and submits a true copy with the original. Now that original documents are no longer mandatory, the requirement for the FAA to return original documents is no longer necessary when non-original documents are submitted. However, the current procedure for processing original paper documents remains in place; original documents filed with a certified true copy will still be returned upon request. Therefore, the FAA is replacing the regulatory requirement with language expressly permitting a person to submit a true copy of a conveyance in lieu of submitting the original (except when specifically required to submit an original document by law, regulation, or other authority). The FAA is also making conforming and clarifying changes to the last sentence of § 49.21, which establishes the requirements for a copy to qualify as a “true” copy. Instead of the current requirement that the copy be imprinted on paper permanent in nature, including dates and signatures, the FAA is now requiring only that the true copy be in a form and manner acceptable to the Administrator. This change will allow acceptance of true copies that are in electronic or digital form. With regard to the requirement that a certificate stating that the copy has been compared with the original and that it is a true copy be attached with the submission, the FAA is adding language to clarify that the required certificate could take the form of some other type of acceptable attestation. This addition serves only to clarify that, for purposes of § 49.21, a statement attesting to the trueness of a copy is functionally and legally equivalent to a statement certifying the trueness of a copy.

V. Regulatory Notices and Analyses

A. Regulatory Evaluation

Executive Orders 12866 (“Regulatory Planning and Review”) and 13563 (“Improving Regulation and Regulatory Review”) require agencies to regulate in the “most cost-effective manner,” to make a “reasoned determination that the benefits of the intended regulation justify its costs,” and to develop regulations that “impose the least burden on society.” The Office of Management and Budget has determined that this rule is not a significant regulatory action as defined in section 3(f)(1) of Executive Order 12866, as amended by Executive Order. 14094, “Modernizing Regulatory Review.”

The rule enables the FAA to accept non-original documents and removes the requirement to stamp documents. Historically, stamping was used to track the date and time documents were received and processed by the Registry. This functionality is already built into the existing RMS and upcoming CARES system. The FAA has also determined that requiring original documents is unnecessary in many cases and restricts the efficiency gains from electronic systems such as CARES. Prior to this rulemaking, the Registry required original copies of certain documents, and ink signed copies uploaded to CARES would be rejected. Similarly, prior to this rulemaking, the FAA would mail back any received original documents.

The FAA receives original documents in registration applications, as well as other documents for recordation. The FAA receives 76,440 applications per year. This includes 60,324 approved applications and 16,116 rejected applications. The FAA also receives roughly 25,000 conveyances for recordation each year. This rule may generate cost savings including saved postage costs for registrants and other users from not having to mail in original copies. The FAA assumes all such documents are mailed together and that such applications and conveyances could be completed entirely electronically and would not require documents to be mailed under this rule. The USPS charges $1.50 to mail a flat envelope,³ which the FAA assumes is sufficient to contain all application and recordation materials. If all Registry users submitted electronically, the rule could result in $152,160 of cost savings per year (76,440 applications plus 25,000 conveyances multiplied by $1.50).

³ https://www.usps.com/ship/first-class-mail.htm, last accessed November 6, 2024.

The rule will reduce the wait time for an application by reducing the delay between an applicant submitting materials and the FAA receiving the materials. It also may reduce printing costs by allowing documents to be submitted electronically rather than requiring them to be printed or copied.

The rule will have minimal to no costs, as the infrastructure is scheduled to be deployed with or without the rulemaking. Furthermore, the rule is expected to result in cost savings for the FAA by reducing the postage costs associated with mailing back original documents. It may also result in reduced costs for the FAA by reducing the time employees spend handling and stamping paper documents and preparing them to mail.

The FAA assumes that only the 60,324 annual successful applications include original documents, and that all conveyance submissions include original documents. These are sent out via bulk mail. The FAA estimates the unit cost of mailing the original documents from each application is $0.971.⁴ If all future customers use electronic document submission, the cost savings to FAA may be up to $82,849 per year (60,324 applications plus 25,000 conveyances multiplied by $0.971).

⁴ Assumes rate for bulk marketing mail flats (bulk). See USPS Price List, effective October 4, 2024: https://pe.usps.com/text/dmm300/Notice123.htm?_gl=1*1e8cdrr*_gcl_au*NDY1OTc0MzQwLjE3MzA4MTUxMjQ.*_ga*MTc5MTgzMzg5Ni4xNzMwODE1MTI0*_ga_3NXP3C8S9V*MTczMTA3NTA3NC4yLjAuMTczMTA3NTA3NC4wLjAuMA..#_c119, accessed on November 6, 2024.

B. Regulatory Flexibility Act

The Regulatory Flexibility Act (RFA), in 5 U.S.C. 603, requires an agency to prepare an initial regulatory flexibility analysis describing impacts on small entities whenever 5 U.S.C. 553 or any other law requires an agency to publish a general notice of proposed rulemaking for any proposed rule. Similarly, 5 U.S.C. 604 requires an agency to prepare a final regulatory flexibility analysis when an agency issues a final rule under 5 U.S.C. 553 after that section or any other law requires publication of a general notice of proposed rulemaking. The FAA concludes that this is a rule of agency procedure or practice for which notice and comment are not required. As 5 U.S.C. 553 does not require notice and comment in this situation, 5 U.S.C. 603 and 604 similarly do not require regulatory flexibility analyses.

C. International Trade Impact Assessment

The Trade Agreements Act of 1979 (Pub. L. 96-39), as amended by the Uruguay Round Agreements Act (Pub. L. 103-465), prohibits Federal agencies from establishing standards or engaging in related activities that create unnecessary obstacles to the foreign commerce of the United States. Pursuant to these Acts, the establishment of standards is not considered an unnecessary obstacle to the foreign commerce of the United States, so long as the standard has a legitimate domestic objective, such as the protection of safety and does not operate in a manner that excludes imports that meet this objective. The statute also requires consideration of international standards and, where appropriate, that they be the basis for U.S. standards.

The FAA has assessed the potential effect of this rule and determined that it ensures the safety of the American public and does not exclude imports that meet this objective. As a result, the FAA does not consider this rule as creating an unnecessary obstacle to foreign commerce.

D. Unfunded Mandates Assessment

The Unfunded Mandates Reform Act of 1995 (2 U.S.C. 1531-1538) governs the issuance of Federal regulations that require unfunded mandates. An unfunded mandate is a regulation that requires a State, local, or Tribal government or the private sector to incur direct costs without the Federal government having first provided the funds to pay those costs. The FAA determined that the immediately adopted final rule will not result in the expenditure of $183,000,000 or more by State, local, or Tribal governments, in the aggregate, or the private sector, in any one year.

E. Paperwork Reduction Act

The Paperwork Reduction Act of 1995 (44 U.S.C. 3507(d)) requires that the FAA consider the impact of paperwork and other information collection burdens imposed on the public. The information collection for aircraft registration and recordation is approved under OMB control number 2120-0042. The FAA has determined that there will be no new requirement for information collection associated with this final rule.

F. International Compatibility

In keeping with U.S. obligations under the Convention on International Civil Aviation, it is FAA policy to conform to International Civil Aviation Organization (ICAO) Standards and Recommended Practices to the maximum extent practicable. The FAA has determined that there are no ICAO Standards and Recommended Practices that correspond to these regulations.

G. Environmental Analysis

FAA Order 1050.1F identifies FAA actions that are categorically excluded from preparation of an environmental assessment or environmental impact statement under the National Environmental Policy Act (NEPA) in the absence of extraordinary circumstances. The FAA has determined this rulemaking action qualifies for the categorical exclusion identified in paragraph 5-6.6f for regulations and involves no extraordinary circumstances.

VI. Executive Order Determinations

A. Executive Order 13132, Federalism

The FAA has analyzed this final rule under the principles and criteria of Executive Order 13132, Federalism. The FAA has determined that this action will not have a substantial direct effect on the States, or the relationship between the Federal Government and the States, or on the distribution of power and responsibilities among the various levels of government, and, therefore, will not have federalism implications.

B. Executive Order 13175, Consultation and Coordination With Indian Tribal Governments

Consistent with Executive Order 13175, Consultation and Coordination with Indian Tribal Governments,⁵ and FAA Order 1210.20, American Indian and Alaska Native Tribal Consultation Policy and Procedures,⁶ the FAA ensures that Federally Recognized Tribes (Tribes) are given the opportunity to provide meaningful and timely input regarding proposed Federal actions that have the potential to have substantial direct effects on one or more Indian Tribes, on the relationship between the Federal government and Indian Tribes, or on the distribution of power and responsibilities between the Federal government and Indian Tribes; or to affect uniquely or significantly their respective Tribes. At this point, the FAA has not identified any unique or significant effects, environmental or otherwise, on Tribes resulting from this final rule.

⁵ 65 FR 67249 (Nov. 6, 2000).

⁶ FAA Order No. 1210.20 (Jan. 28, 2004), available at https://www.faa.gov/documentLibrary/media/1210.pdf.

C. Executive Order 13211, Regulations That Significantly Affect Energy Supply, Distribution, or Use

The FAA analyzed this final rule under Executive Order 13211, Actions Concerning Regulations that Significantly Affect Energy Supply, Distribution, or Use. The FAA has determined that it will not be a “significant energy action” under the executive order and is not likely to have a significant adverse effect on the supply, distribution, or use of energy.

D. Executive Order 13609, Promoting International Regulatory Cooperation

Executive Order 13609, Promoting International Regulatory Cooperation, promotes international regulatory cooperation to meet shared challenges involving health, safety, labor, security, environmental, and other issues and to reduce, eliminate, or prevent unnecessary differences in regulatory requirements. The FAA has analyzed this action under the policies and agency responsibilities of Executive Order 13609 and has determined that this action will have no effect on international regulatory cooperation.

VII. Additional Information

A. Electronic Access and Filing

A copy of this final rule and all background material may be viewed online at www.regulations.gov using the docket number listed above. Electronic retrieval help and guidelines are available on the website. It is available 24 hours each day, 365 days each year. An electronic copy of this document may also be downloaded from the Office of the Federal Register's website at www.federalregister.gov and the Government Publishing Office's website at www.govinfo.gov. A copy may also be found at the FAA's Regulations and Policies website at www.faa.gov/regulations_policies.

Copies may also be obtained by sending a request to the Federal Aviation Administration, Office of Rulemaking, ARM-1, 800 Independence Avenue SW, Washington, DC 20591, or by calling (202) 267-9677. Requesters must identify the docket or notice number of this rulemaking.

All documents the FAA considered in developing this final rule, including economic analyses and technical reports, may be accessed in the electronic docket for this rulemaking.

B. Small Business Regulatory Enforcement Fairness Act

The Small Business Regulatory Enforcement Fairness Act (SBREFA) of 1996 requires the FAA to comply with small entity requests for information or advice about compliance with statutes and regulations within its jurisdiction. A small entity with questions regarding this document may contact its local FAA official or the person listed under the FOR FURTHER INFORMATION CONTACT heading at the beginning of the preamble. To find out more about SBREFA on the internet, visit www.faa.gov/regulations_policies/rulemaking/sbre_act/.

List of Subjects

14 CFR Part 47

Aircraft, Reporting and recordkeeping requirements.

14 CFR Part 49

Aircraft, Reporting and recordkeeping requirements.

The Amendment

For the reasons discussed in the preamble, the Federal Aviation Administration amends chapter I of title 14, Code of Federal Regulations as follows:

PART 47—AIRCRAFT REGISTRATION

1. The authority citation for part 47 is revised to read as follows:

Authority: 4 U.S.T. 1830; Pub. L. 115-254, Pub. L. 108-297, 118 Stat. 1095 (49 U.S.C. 40101 note, 49 U.S.C. 44101 note); 49 U.S.C. 106(f), 40113-40114, 44101-44108, 44110-44113, 44701, 44703-44704, 44713, 45302, 46104, 46301.

2. Revise § 47.19 to read as follows:

§ 47.19 Registry.

Each application, submission, request, notification, or other communication sent to the Administrator under this part must be delivered to the Registry by a means and in a form acceptable to the Administrator, to include electronic or digital forms and means compatible with systems of the Registry.

3. Amend § 47.31 by revising paragraph (a)(2) to read as follows:

§ 47.31 Application.

* * * * *

(a) * * *

(2) The Aircraft Bill of Sale, AC Form 8050-2, or other evidence of ownership authorized by § 47.33, § 47.35, or § 47.37 (unless already recorded at the Registry); and

* * * * *

4. Revise § 47.39 to read as follows:

§ 47.39 Effective date of registration.

An aircraft is registered on the date the Registry determines that the submissions meet the requirements of this part. The effective date of registration is shown as the date of issue on the Certificate of Aircraft Registration.

PART 49—RECORDING OF AIRCRAFT TITLES AND SECURITY DOCUMENTS

5. The authority citation for part 49 is revised to read as follows:

Authority: 4 U.S.T. 1830; Pub. L. 108-297, 118 Stat. 1095 (49 U.S.C. 40101 note, 49 U.S.C. 44101 note); 49 U.S.C. 106(f), 40113-40114, 44101-44108, 44110-44113, 44701, 44704, 44713, 45302, 46104, 46301.

6. Revise § 49.11 to read as follows:

§ 49.11 FAA Aircraft Registry.

To be eligible for recording, a conveyance must be delivered to the Registry by a means and in a form acceptable to the Administrator, to include electronic or digital forms and means compatible with systems of the Registry.

7. Amend § 49.17 by revising paragraph (d)(3) to read as follows:

§ 49.17 Conveyances recorded.

* * * * *

(d) * * *

(3) An assignment of an interest in a security agreement must be signed by the assignor and, unless it is attached to and is a part of the originating agreement, must describe the agreement in sufficient detail to identify it, including its date, the names of the parties, the date of FAA recording, and the recorded conveyance number.

* * * * *

8. Revise § 49.21 to read as follows:

§ 49.21 True copy of original conveyance.

A person submitting a conveyance for recording may submit a true copy in lieu of the original, except where an original is specifically required. The true copy must be in a form and manner acceptable to the Administrator, to which is attached a certificate, or other acceptable attestation, of the person submitting the conveyance stating that the copy has been compared with the original and that it is a true copy.

9. Amend § 49.33 by revising paragraph (c) to read as follows:

§ 49.33 Eligibility for recording: general requirements.

* * * * *

(c) It is a true copy of an original document, certified under § 49.21, or an original document or a duplicate original document;

* * * * *

Issued under authority provided by 49 U.S.C. 106(f), 44701(a), and 44101-44108 in Washington, DC.
Michael Gordon Whitaker,
Administrator.

[FR Doc. 2025-00763 Filed 1-16-25; 8:45 am]

BILLING CODE 4910-13-P